DEPARTMENT OF ENERGY

Federal Energy Regulatory Commission

Combined Notice of Filings #1

Take notice that the Commission received the following exempt wholesale generator filings:

Docket Numbers: EG24-186-000.

Applicants: Spanish Peaks Solar LLC.

Description: Spanish Peaks Solar LLC submits Notice of Self-Certification of Exempt Wholesale Generator Status.

Filed Date: 5/22/24.

Accession Number: 20240522-5082.

Comment Date: 5 p.m. ET 6/12/24.

Take notice that the Commission received the following electric rate filings:

Docket Numbers: ER24-1587-000.

Applicants: AlbertaEx, L.P.

Description: Report Filing: Supplement to Application for Market-Based Rate Authority to be effective N/A.

Filed Date: 5/20/24.

Accession Number: 20240520-5111.

Comment Date: 5 p.m. ET 5/30/24.

Docket Numbers: ER24-1808-001.

Applicants: ISO New England Inc., New England Power Company.

Description: Tariff Amendment: ISO New England Inc. submits tariff filing per 35.17(b): Amended Filing of Revisions to Schedule 21-NEP to be effective 5/1/2024.

Filed Date: 5/22/24.

Accession Number: 20240522-5118.

Comment Date: 5 p.m. ET 6/12/24.

Docket Numbers: ER24-1906-000.

Applicants: Cheyenne Light, Fuel and Power Company.

Description: Supplement to May 1, 2024 Order 2023 Open Access Transmission Tariff Revisions of Cheyenne Light, Fuel and Power.

Filed Date: 5/17/24.

Accession Number: 20240517-5076.

Comment Date: 5 p.m. ET 6/7/24.

Docket Numbers: ER24-2071-000.

Applicants: Mid-Atlantic Interstate Transmission, LLC, PJM Interconnection, L.L.C.

Description: Tariff Amendment: Mid-Atlantic Interstate Transmission, LLC submits tariff filing per 35.15: Notice of Cancellation of ECSA, SA No. 6494 to be effective 7/22/2024.

Filed Date: 5/22/24.

Accession Number: 20240522-5059.

Comment Date: 5 p.m. ET 6/12/24.

Docket Numbers: ER24-2072-000.

Applicants: The Empire District Electric Company, Southwest Power Pool, Inc.

Description: Compliance filing: The Empire District Electric Company submits tariff filing per 35: The Empire District Electric Company's Order No. 864 Compliance Filing to be effective 1/27/2020.

Filed Date: 5/22/24.

Accession Number: 20240522-5060.

Comment Date: 5 p.m. ET 6/12/24.

Docket Numbers: ER24-2073-000.

Applicants: Midcontinent Independent System Operator, Inc., American Transmission Company LLC.

Description: 205(d) Rate Filing: Midcontinent Independent System Operator, Inc. submits tariff filing per 35.13(a)(2)(iii: 2024-05-22_SA 3785 Termination of ATC-WPL West Sharon PCA to be effective 5/23/2024.

Filed Date: 5/22/24.

Accession Number: 20240522-5080.

Comment Date: 5 p.m. ET 6/12/24.

Docket Numbers: ER24-2074-000.

Applicants: PJM Interconnection, L.L.C.

Description: 205(d) Rate Filing: Amendment to WMPA, SA No. 7025; Queue No. AG1-193 (amend) to be effective 7/22/2024.

Filed Date: 5/22/24.

Accession Number: 20240522-5104.

Comment Date: 5 p.m. ET 6/12/24.

Docket Numbers: ER24-2075-000.

Applicants: Tri-State Generation and Transmission Association, Inc.

Description: 205(d) Rate Filing: Amendment to Service Agreement FERC No. 816 to be effective 4/30/2024.

Filed Date: 5/22/24.

Accession Number: 20240522-5113.

Comment Date: 5 p.m. ET 6/12/24.

Docket Numbers: ER24-2076-000.

Applicants: Tri-State Generation and Transmission Association, Inc.

Description: 205(d) Rate Filing: Initial Filing of Rate Schedule FERC No. 370 to be effective 4/30/2024.

Filed Date: 5/22/24.

Accession Number: 20240522-5176.

Comment Date: 5 p.m. ET 6/12/24.

Docket Numbers: ER24-2077-000.

Applicants: PJM Interconnection, L.L.C.

Description: 205(d) Rate Filing: Amendment to ISA, SA No. 4827; Queue No. AC1-010 (amend) to be effective 7/22/2024.

Filed Date: 5/22/24.

Accession Number: 20240522-5177.

Comment Date: 5 p.m. ET 6/12/24.

Docket Numbers: ER24-2078-000.

Applicants: Nestlewood Solar I LLC.

Description: Tariff Amendment: Notice of Cancellation of Rate Schedule and Request for Waivers to be effective 5/23/2024.

Filed Date: 5/22/24.

Accession Number: 20240522-5189.

Comment Date: 5 p.m. ET 6/12/24.

Docket Numbers: ER24-2079-000.

Applicants: Basin Electric Power Cooperative.

Description: Initial rate filing: Submission of Service Agreement No. 119 to be effective 9/10/2023.

Filed Date: 5/22/24.

Accession Number: 20240522-5197.

Comment Date: 5 p.m. ET 6/12/24.

Docket Numbers: ER24-2080-000.

Applicants: PJM Interconnection, L.L.C.

Description: 205(d) Rate Filing: Original GIA, Service Agreement No. 7258; NQ213 to be effective 4/22/2024.

Filed Date: 5/22/24.

Accession Number: 20240522-5200.

Comment Date: 5 p.m. ET 6/12/24.

Docket Numbers: ER24-2081-000.

Applicants: Tri-State Generation and Transmission Association, Inc.

Description: 05(d) Rate Filing: Amendment to Rate Schedule FERC No. 30 to be effective 7/22/2024.

Filed Date: 5/22/24.

Accession Number: 20240522-5217.

Comment Date: 5 p.m. ET 6/12/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 22, 2024.
Debbie-Anne A. Reese,
Acting Secretary.

[FR Doc. 2024-11756 Filed 5-28-24; 8:45 am]

BILLING CODE 6717-01-P